DEPARTMENT OF AGRICULTURE

Rural Utilities Service

7 CFR Part 1724

RIN 0572-AB54

Electric Engineering, Architectural Services and Design Policies and Procedures

AGENCY: Rural Utilities Service, USDA.

ACTION: Proposed rule.

SUMMARY: The Rural Utilities Service (RUS) is proposing to amend its regulations to revise its requirements regarding RUS approval of plans and specifications for buildings. Specifically, RUS is proposing that the requirement for RUS approval of architectural plans and specifications for buildings be eliminated and that instead the borrower's architect or engineer be required to state that the design complies with certain specific standards. This change is being made in order to provide better service to borrowers.

DATES: Written comments must be received by RUS, or bear a postmark or equivalent, no later than June 23, 2000.

ADDRESSES: Written comments should be addressed to F. Lamont Heppe, Jr., Director, Program Development and Regulatory Analysis, Rural Utilities Service, U.S. Department of Agriculture, Stop 1522, 1400 Independence Avenue, SW., Washington, DC 20250-1522. Telephone: (202) 720-9550. RUS requires a signed original and three copies of all comments (7 CFR 1700.4). Comments will be available for public inspection during regular business hours (7 CFR 1.27(b)).

FOR FURTHER INFORMATION CONTACT: Fred J. Gatchell, Deputy Director, Electric Staff Division, Rural Utilities Service, U.S. Department of Agriculture, Stop 1569, 1400 Independence Ave., SW., Washington, DC 20250-1569. Telephone: (202) 720-1398. FAX: (202) 720-7491. E-mail: fgatchel@rus.usda.gov.

SUPPLEMENTARY INFORMATION:

Executive Order 12866

This proposed rule has been determined to be not significant for the purposes of Executive Order 12866 and, therefore, has not been reviewed by the Office of Management and Budget (OMB).

Executive Order 12372

This proposed rule is excluded from the scope of Executive Order 12372, Intergovernmental Consultation, which may require consultation with State, local, and tribal government or the private sector. See the final rule related notice entitled “Department Programs and Activities Excluded from Executive Order 12372,” (50 FR 47034).

Executive Order 12988

This proposed rule has been reviewed under Executive Order 12988, Civil Justice Reform. RUS has determined that this rule meets the applicable standards provided in Section 3 of the Executive Order. In accordance with the Executive Order and the rule: (1) All State and local laws and regulations that are in conflict with this rule will be preempted; (2) no retroactive effect will be given to this rule, and (3), in accordance with § 212(e) of the Department of Agriculture Reorganization Act of 1994 (7 U.S.C. § 6912(e)), if any are more required, they must be exhausted prior to initiating litigation against the Department or its agencies.

Regulatory Flexibility Act Certification

The Administrator of RUS has determined that this rule relating to RUS electric loan program is not a rule as defined in the Regulatory Flexibility Act (5 U.S.C. 601 et seq.) and, therefore, the Regulatory Flexibility Act does not apply to this rule. RUS borrowers, as a result of obtaining federal financing, receive economic benefits that exceed any direct economic costs associated with complying with RUS regulations and requirements.

National Environmental Policy Act Certification

The Administrator of RUS has determined that this proposed rule will not significantly affect the quality of the human environment as defined by the National Environmental Policy Act of 1969 (42 U.S.C. 4321 et seq.). Therefore, this action does not require an environmental impact statement or assessment.

Catalog of Federal Domestic Assistance

The program described by this proposed rule is listed in the Catalog of Federal Domestic Assistance programs under No. 10.850, Rural Electrification Loans and Loan Guarantees. This catalog is available on a subscription basis from the Superintendent of Documents, the United States Government Printing Office, Washington, DC 20402-9325, telephone number (202) 512-1800.

Information Collection and Recordkeeping Requirements

The reporting and recordkeeping requirements contained in this rule were approved by the Office of Management and Budget (OMB) pursuant to the Paperwork Reduction Act of 1995 (44 U.S.C. Chapter 35) under OMB control number 0572-0118.

Send questions or comments regarding this burden or any other aspect of these collection of information, including suggestions for reducing the burden to F. Lamont Heppe, Jr., Director, Program Development and Regulatory Analysis, Rural Utilities Service, USDA, 1400 Independence Ave., Room 4034 SBldg., STOP 1522, Washington, DC 20250-1522.

Unfunded Mandates

This proposed rule contains no Federal mandates (under the regulatory provision of title II of the Unfunded Mandates Reform Act) for State, local, and tribal governments or the private sector. Thus, this proposed rule is not subject to the requirements of sections 202 and 205 of the Unfunded Mandates Reform Act.

Background

RUS has promulgated regulations pertaining to the design and construction of RUS electric borrower's systems. These regulations are contained in 7 CFR chapter XVII, Part 1724, Electric Engineering, Architectural Services and Design Policies and Procedures, which describes policies and procedures pertaining to RUS electric borrower procurement of architectural and engineering services for planning, design, and construction management of buildings and electric utility plant such as distribution and transmission lines, substations, communications and control systems, and generating plants. RUS has determined that continued review and approval of plans and specifications for buildings by RUS is not necessary. This will eliminate the burden on the borrowers of having to send the plans and specifications to RUS before issuing them to bidders. However, RUS will require that the borrower's architect or engineer state that the design complies with certain specific standards. This change is being made in order to provide better service to borrowers.

We are also correcting a date in the list of contract forms.

List of Subjects in 7 CFR Part 1724

Electric power, Loan programs—energy, Reporting and recordkeeping requirements, Rural areas.

For the reasons set forth in the preamble, RUS proposes to amend 7 CFR chapter XVII by amending part 1724 as follows:

PART 1724—ELECTRICAL ENGINEERING, ARCHITECTURAL SERVICES AND DESIGN POLICIES AND PROCEDURES

1. The authority citation for part 1724 continues to read as follows:

Authority: 7 U.S.C. 901 et seq., 1921 et seq., 6941 et seq.

2. Section 1724.54(f)(2) is revised to read as follows:

§ 1724.54 Requirements for RUS approval of plans and specifications.

* * * * *

(f) * * *

(2) Unless RUS approval is required by paragraph (a) of this section, plans and specifications for headquarters buildings do not require RUS approval. The borrower shall submit two copies of RUS Form 740g, Application for Headquarters Facilities. This form is available from Program Development and Regulatory Analysis, Rural Utilities Service, United States Department of Agriculture, Stop 1522, 1400 Independence Ave., SW., Washington, DC 20250-1522. The application must show floor area and estimated cost breakdown between office building space and space for equipment warehousing and service facilities, and include a one line drawing (floor plan and elevation view), to scale, of the proposed building with overall dimensions shown. The information concerning the planned building may be included in the borrower's construction work plan in lieu of submitting it with the application. (See 7 CFR part 1710, subpart F.) Prior to issuing the plans and specifications for bid, the borrower shall also submit to RUS a statement, signed by the architect or engineer, that the building design meets the Uniform Federal Accessibility Standards (See § 1724.51(e)(1)(i)).

* * * * *

3. Section 1724.74(d)(7) is revised to read as follows:

§ 1724.74 List of electric program standard contract forms.

* * * * *

(d) * * *

(7) RUS Form 284, Rev. 4-72, Final Statement of Cost for Architectural Service. This form is used for the closeout of architectural services contracts.

* * * * *

Dated: April 12, 2000.
Jill Long Thompson,
Under Secretary, Rural Development.

[FR Doc. 00-10140 Filed 4-21-00; 8:45 am]

BILLING CODE 3410-15-P